DEPARTMENT OF HEALTH AND HUMAN SERVICES

Centers for Disease Control and Prevention

Disease, Disability, and Injury Prevention and Control Special Emphasis Panel: Interventional Epidemiologic Research Studies To Reduce Mother-to-Child HIV-1 Transmission and Improve Infant Survival in Resource-Limited Countries of High HIV-1 Seroprevalence, Program Announcement 02074

In accordance with section 10(a)(2) of the Federal Advisory Committee Act (Pub. L. 92-463), the Centers for Disease Control and Prevention (CDC) announces the following meeting:

Name: Disease, Disability, and Injury Prevention and Control Special Emphasis Panel (SEP): Interventional Epidemiologic Research Studies to Reduce Mother-to-Child HIV-1 Transmission and Improve Infant Survival in Resource-Limited Countries of High HIV-1 Seroprevalence, Program Announcement 02074.

Times and Dates: 9 a.m.-9:30 a.m., August, 28, 2002 (Open) 9:30 a.m.-4:30 p.m., August 28, 2002 (Closed).

Place: Double Tree Hotel, 3342 Peachtree Road, NE, Atlanta, GA.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to PA# 02074.

Contact Person for More Information: Beth Wolfe, Prevention Support Office, National Center for HIV, STD, and TB Prevention, CDC, 1600 Clifton Road NE MS E-07, Atlanta, Georgia 30333, 404-639-8025.

The Director, Management Analysis and Services Office has been delegated the authority to sign Federal Register notices pertaining to announcements of meetings and other committee management activities, for both the Centers for Disease Control and Prevention and the Agency for Toxic Substances and Disease Registry.

Dated: July 29, 2002.
John Burckhardt,
Acting Director, Management Analysis and Services Office, Centers for Disease Control and Prevention (CDC).

[FR Doc. 02-19512 Filed 8-1-02; 8:45 am]

BILLING CODE 4163-18-P